SMALL BUSINESS ADMINISTRATION

13 CFR Part 121

[Docket No. 04-10066]

RIN 3245-AE92

Small Business Size Regulations; Correction

AGENCY: U.S. Small Business Administration.

ACTION: Final rule; correction of applicability date.

SUMMARY: The U.S. Small Business Administration (SBA) is correcting a final rule that appeared in the Federal Register of May 21, 2004 (69 FR 29192). The document amended the definitions of affiliation and employees and made procedural and technical amendments to cover several of SBA's programs.

DATES: Effective Date: The rule is effective on June 21, 2004.

Applicability Date: These amendments apply to all solicitations issued on or after June 21, 2004, as well as all applications for financial or other assistance pending as of or submitted to the SBA on or after June 21, 2004. The amendments will apply to all follow-on or contract renewals and size representations submitted as part of an order issued pursuant to a contract (if the Contracting Officer has reserved the order for small businesses and requested a size certification) on or after December 21, 2004. The amendments will apply to all novation and change-of-name agreements executed pursuant to FAR 42.12 on or after December 21, 2004. The SBA believes it is necessary to delay applicability of this rule for such situations because some novations may be in the progress of completion, but not yet completed at this time and this change in applicability date will not hinder the progress of such agreements.

FOR FURTHER INFORMATION CONTACT: Gary Jackson, Assistant Administrator, Office of Size Standards, (202) 205-6618, or Gary.Jackson@sba.gov.

SUPPLEMENTARY INFORMATION: In FR Doc 04-10066 appearing on page 29192 in the Federal Register of Friday, May 21, 2004, the SBA published a final rule amending its size regulations. In response to inquiries, SBA is issuing this notice to clarify application of the effective date, by modifying the applicability date section of the final rule. The final rule remains effective on June 21, 2004. The amendments apply to all solicitations issued on or after the effective date, as well as all applications for financial or other assistance pending as of or submitted to the SBA on or after the effective date. However, the amendments will apply to all follow-on or contract renewals and size representations submitted as part of an order issued pursuant to a contract (if the Contracting Officer has reserved the order for small businesses and requested a size certification) on or after December 21, 2004. Further, it will apply to all novation and change-of-name agreements executed pursuant to FAR 42.21 on or after December 21, 2004. The SBA believes it is necessary to delay applicability of this rule for such situations because some novations may be in the progress of completion, but not yet completed at this time and this change in applicability date will not hinder the progress of such agreements.

Allegra F. McCullough,
Associate Deputy Administrator for Government Contracting and Business Development.

[FR Doc. 04-17437 Filed 7-29-04; 8:45 am]

BILLING CODE 8025-01-P